DEPARTMENT OF ENERGY

Federal Energy Regulatory Commission

Combined Notice of Filings #1

Take notice that the Commission received the following electric corporate filings:

Docket Numbers: EC15-162-000.

Applicants: ITC Midwest LLC.

Description: Application for Approval of Acquisition of Assets under Section 203 of ITC Midwest LLC.

Filed Date: 7/1/15.

Accession Number: 20150701-5361.

Comments Due: 5 p.m. ET 7/22/15.

Docket Numbers: EC15-163-000.

Applicants: SEP II, LLC.

Description: Section 203 Application for Authorization of Intracorporate Transfer of Jurisdictional Assets and Request for Expedited Action of SEP II, LLC.

Filed Date: 7/1/15.

Accession Number: 20150701-5367.

Comments Due: 5 p.m. ET 7/22/15.

Take notice that the Commission received the following electric rate filings:

Docket Numbers: ER10-1817-010; ER10-1819-011; ER10-1820-014; ER10-1818-009.

Applicants: Southwestern Public Service Company, Northern States Power Company, a Minnesota corporation, Northern States Power Company, a Wisconsin corporation, Public Service Company of Colorado.

Description: Triennial Market Power Analysis and Change in Status Report of Southwestern Public Service Company, et. al.

Filed Date: 6/30/15.

Accession Number: 20150630-5474.

Comments Due: 5 p.m. ET 8/31/15.

Docket Numbers: ER10-1936-005; ER10-2755-009; ER10-2739-011; ER10-2751-006.

Applicants: Carville Energy LLC, Las Vegas Power Company, LLC, LS Power Marketing, LLC, Renaissance Power, L.L.C.

Description: Updated Market Power Analysis for the Central Region of the LS Central MBR Sellers.

Filed Date: 6/30/15.

Accession Number: 20150630-5476.

Comments Due: 5 p.m. ET 8/31/15.

Docket Numbers: ER10-2074-005; ER10-2097-007.

Applicants: Kansas City Power & Light Company, KCP&L Greater Missouri Operations Company.

Description: Updated Market Power Analysis for Southwest Power Pool, Inc. Balancing Area Authority of Kansas City Power & Light Company, et. al.

Filed Date: 6/30/15.

Accession Number: 20150630-5471.

Comments Due: 5 p.m. ET 8/31/15.

Docket Numbers: ER10-2839-004.

Applicants: Midland Cogeneration Venture Limited Partnership.

Description: Updated Market Power Analysis of Midland Cogeneration Venture Limited Partnership.

Filed Date: 6/30/15.

Accession Number: 20150630-5469.

Comments Due: 5 p.m. ET 8/31/15.

Docket Numbers: ER10-2964-008.

Applicants: Selkirk Cogen Partners, L.P.

Description: Notice of Non-Material Change in Status of Selkirk Cogen Partners, L.P.

Filed Date: 7/1/15.

Accession Number: 20150701-5373.

Comments Due: 5 p.m. ET 7/22/15.

Docket Numbers: ER11-2489-006; ER12-726-005; ER12-2639-004; ER11-3620-008; ER11-2882-009; ER12-1431-006; ER12-1434-006; ER12-1432-006; ER12-1435-006; ER13-2102-004; ER14-1439-003; ER14-1656-005; ER15-1019-002; ER10-2628-003; ER11-3959-005.

Applicants: Hatchet Ridge Wind, LLC, Spring Valley Wind LLC, Ocotillo Express LLC, Lyonsdale Biomass, LLC, ReEnergy Sterling CT Limited Partnership, ReEnergy Ashland LLC, ReEnergy Fort Fairfield LLC, ReEnergy Livermore Falls LLC, ReEnergy Stratton LLC, ReEnergy Black River LLC, TrailStone Power, LLC, CSOLAR IV West, LLC, Fowler Ridge IV Wind Farm LLC, Lost Creek Wind, LLC, Post Rock Wind Power Project, LLC.

Description: Notification of change in status of the Riverstone MBR Entities.

Filed Date: 7/1/15.

Accession Number: 20150701-5374.

Comments Due: 5 p.m. ET 7/22/15.

Docket Numbers: ER14-1348-004; ER14-1349-004; ER10-3057-002; ER15-1687-002.

Applicants: The Dow Chemical Company, Union Carbide Corporation, Dow Pipeline Company, Blue Cube Operations LLC.

Description: Triennial Market Power Analysis for the Central Region of The Dow Chemical Company, et. al.

Filed Date: 6/30/15.

Accession Number: 20150630-5473.

Comments Due: 5 p.m. ET 8/31/15.

Docket Numbers: ER15-1510-001.

Applicants: FirstEnergy Solutions Corp.

Description: Tariff Amendment: Deficiency Filing to be effective 4/16/2015.

Filed Date: 7/2/15.

Accession Number: 20150702-5010.

Comments Due: 5 p.m. ET 7/23/15.

Docket Numbers: ER15-1919-001.

Applicants: California Independent System Operator Corporation.

Description: Tariff Amendment: 2015-07-01 Amendment to EIM Year One Tariff Record Effective Date to be effective 9/15/2015.

Filed Date: 7/1/15.

Accession Number: 20150701-5320.

Comments Due: 5 p.m. ET 7/22/15.

Docket Numbers: ER15-2090-000.

Applicants: New York State Electric & Gas Corporation.

Description: § 205(d) Rate Filing: NYSEG-NYPA Attachment C—O&M Annual Update to be effective 9/1/2015.

Filed Date: 7/1/15.

Accession Number: 20150701-5303.

Comments Due: 5 p.m. ET 7/22/15.

Docket Numbers: ER15-2091-000.

Applicants: New York State Electric & Gas Corporation.

Description: § 205(d) Rate Filing: Rate Schedule FERC No. 87 Supplement to be effective 9/1/2015.

Filed Date: 7/1/15.

Accession Number: 20150701-5317.

Comments Due: 5 p.m. ET 7/22/15.

Docket Numbers: ER15-2092-000.

Applicants: Southern California Edison Company.

Description: § 205(d) Rate Filing: Service Agreement with Ecos Energy Indian Canyon Solar Project GFID5524 to be effective 9/1/2015.

Filed Date: 7/2/15.

Accession Number: 20150702-5002.

Comments Due: 5 p.m. ET 7/23/15.

Docket Numbers: ER15-2093-000.

Applicants: Southern California Edison Company.

Description: § 205(d) Rate Filing: Service Agmt Ecos Energy for Little Morongo Solar GFID5523 to be effective 9/1/2015.

Filed Date: 7/2/15.

Accession Number: 20150702-5003.

Comments Due: 5 p.m. ET 7/23/15.

Docket Numbers: ER15-2094-000.

Applicants: Midcontinent Independent System Operator, Inc.

Description: § 205(d) Rate Filing: 2015-07-02_SA 2810 MDU-OTP-MDU Ellendale T-TIA to be effective 6/12/2015.

Filed Date: 7/2/15.

Accession Number: 20150702-5067.

Comments Due: 5 p.m. ET 7/23/15.

Docket Numbers: ER15-2095-000.

Applicants: Midcontinent Independent System Operator, Inc.

Description: § 205(d) Rate Filing: 2015-07-02_SA 2811 MDU-OTP-OTP Big Stone South T-TIA to be effective 6/12/2015.

Filed Date: 7/2/15.

Accession Number: 20150702-5069.

Comments Due: 5 p.m. ET 7/23/15.

Docket Numbers: ER15-2096-000.

Applicants: Midcontinent Independent System Operator, Inc.

Description: § 205(d) Rate Filing: 2015-07-02_SA 1976 MEC-ITC Midwest 2nd Rev. TIA to be effective 6/17/2015.

Filed Date: 7/2/15.

Accession Number: 20150702-5079.

Comments Due: 5 p.m. ET 7/23/15.

Docket Numbers: ER15-2097-000.

Applicants: AEP Texas Central Company.

Description: § 205(d) Rate Filing: TCC-La Paloma Energy Center IA Second Amend & Restated to be effective 6/9/2015.

Filed Date: 7/2/15.

Accession Number: 20150702-5085.

Comments Due: 5 p.m. ET 7/23/15.

Docket Numbers: ER15-2098-000.

Applicants: AEP Texas North Company.

Description: § 205(d) Rate Filing: TNC-Duke Energy Renewables Solar I Interconnection Agreement to be effective 6/9/2015.

Filed Date: 7/2/15.

Accession Number: 20150702-5094.

Comments Due: 5 p.m. ET 7/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2015.
Kimberly D. Bose,
Secretary.

[FR Doc. 2015-16987 Filed 7-10-15; 8:45 am]

BILLING CODE 6717-01-P